DEPARTMENT OF COMMERCE

Foreign-Trade Zones Board

[Docket 5-2011]

Foreign-Trade Zone 49—Newark, NJ Area; Application for Subzone; LVMH Watch & Jewelry U.S.A., Inc. (Watches, Jewelry Products and Leather Goods); Springfield, NJ

An application has been submitted to the Foreign-Trade Zones Board (the Board) by the Port Authority of New York and New Jersey, grantee of FTZ 49, requesting special-purpose subzone status for the distribution facility of LVMH Watch & Jewelry U.S.A., Inc. (LVMH), located in Springfield, New Jersey. The application was submitted pursuant to the provisions of the Foreign-Trade Zones Act, as amended (19 U.S.C. 81a-81u), and the regulations of the Board (15 CFR part 400). It was formally filed on January 14, 2011.

The LVMH facility (119 employees/1.37 acres/59,884 sq.ft.) is located at 966 South Springfield Avenue in Springfield (Union County), New Jersey. The facility is used for the receipt, handling, packaging, and distribution of watches, jewelry products, leather goods (apparel, hand bags, wallets, cases), accessories, and luggage. All of the products are sourced from abroad and about 10 percent of the facility's shipments will be exported.

FTZ procedures could exempt LVMH from customs duty payments on the foreign goods exported from the proposed subzone. On domestic shipments, the company would be able to defer duty payments until the foreign merchandise is shipped from the facility and entered for U.S. consumption. Subzone status would further allow LVMH to realize logistical benefits through the use of weekly customs entry procedures. The application indicates that the savings from FTZ procedures would help improve the facility's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is March 28, 2011. Rebuttal comments in response to material submitted during the foregoing period may be submitted during the subsequent 15-day period to April 11, 2011.

A copy of the application will be available for public inspection at the Office of the Foreign-Trade Zones Board's Executive Secretary at the address listed above and in the “Reading Room” section of the Board's Web site, which is accessible via http://www.trade.gov/ftz. For further information, contact Pierre Duy at Pierre.Duy@trade.gov or (202) 482-1378.

Dated: January 14, 2011.
Andrew McGilvray,
Executive Secretary.

[FR Doc. 2011-1396 Filed 1-24-11; 8:45 am]

BILLING CODE P